Memorandum of January 19, 2021

Deferred Enforced Departure for Certain Venezuelans

Memorandum for the Secretary of State [and] the Secretary of Homeland Security

The autocratic government of Nicolas Maduro has consistently violated the sovereign freedoms possessed by the Venezuelan people. Through force and fraud, the Maduro regime is responsible for the worst humanitarian crisis in the Western Hemisphere in recent memory. A catastrophic economic crisis and shortages of basic goods and medicine have forced about five million Venezuelans to flee the country, often under dangerous conditions.

This Administration has imposed sanctions against Maduro and his regime, and I have recognized the President of the Venezuelan National Assembly, Juan Guaidó, as the interim president of the country. The deteriorative condition within Venezuela, which presents an ongoing national security threat to the safety and well-being of the American people, warrants the deferral of the removal of Venezuelan nationals who are present in the United States.

Pursuant to my constitutional authority to conduct the foreign relations of the United States, I have determined that it is in the foreign policy interest of the United States to defer the removal of any national of Venezuela, or alien without nationality who last habitually resided in Venezuela, subject to the conditions and exceptions provided below.

Accordingly, I hereby direct you to take appropriate measures to defer for 18 months the removal of any national of Venezuela, or alien without nationality who last habitually resided in Venezuela, who is present in the United States as of January 20, 2021, except for aliens who:

(1) have voluntarily returned to Venezuela or their country of last habitual residence outside the United States;

(2) have not continuously resided in the United States since January 20, 2021;

(3) are inadmissible under section 212(a)(3) of the Immigration and Nationality Act (INA) (8 U.S.C. 1182(a)(3)) or removable under section 237(a)(4) of the INA (8 U.S.C. 1227(a)(4));

(4) who have been convicted of any felony or 2 or more misdemeanors committed in the United States, or who meet the criteria set forth in section 208(b)(2)(A) of the INA (8 U.S.C. 1158(b)(2)(A));

(5) who were deported, excluded, or removed, prior to January 20, 2021;

(6) who are subject to extradition;

(7) whose presence in the United States the Secretary of Homeland Security has determined is not in the interest of the United States or presents a danger to public safety; or

(8) whose presence in the United States the Secretary of State has reasonable grounds to believe would have potentially serious adverse foreign policy consequences for the United States.

I further direct the Secretary of Homeland Security to take appropriate measures to authorize employment for aliens whose removal has been deferred, as provided by this memorandum, for the duration of such deferral.

The Secretary of Homeland Security is authorized and directed to publish this memorandum in the Federal Register.

THE WHITE HOUSE,

Washington, January 19, 2021

[FR Doc. 2021-01718

Filed 1-22-21; 8:45 am]

Billing code 4410-10-P